DEPARTMENT OF ENERGY

Federal Energy Regulatory Commission

Combined Notice of Filings #1

Take notice that the Commission received the following exempt wholesale generator filings:

Docket Numbers: EG24-18-000.

Applicants: Placerita ESS, LLC.

Description: Placerita ESS, LLC submits Notice of Self-Certification of Exempt Wholesale Generator Status.

Filed Date: 10/23/23.

Accession Number: 20231023-5147.

Comment Date: 5 p.m. ET 11/13/23.

Take notice that the Commission received the following electric rate filings:

Docket Numbers: ER22-2029-001.

Applicants: PJM Interconnection, L.L.C.

Description: Compliance filing: Compliance Implementing HSIM with 99% Confidence Interval, EL22-32, ER22-703 to be effective 12/12/2023.

Filed Date: 10/23/23.

Accession Number: 20231023-5148.

Comment Date: 5 p.m. ET 11/13/23.

Docket Numbers: ER24-184-000.

Applicants: American Transmission Systems, Incorporated, PJM Interconnection, L.L.C.

Description: § 205(d) Rate Filing: American Transmission Systems, Incorporated submits tariff filing per 35.13(a)(2)(iii: ATSI submits Revised Interconnection Agreement, Service Agreement No. 5196 to be effective 12/23/2023.

Filed Date: 10/23/23.

Accession Number: 20231023-5150.

Comment Date: 5 p.m. ET 11/13/23.

Docket Numbers: ER24-185-000.

Applicants: The United Illuminating Company.

Description: § 205(d) Rate Filing: Localized Costs Sharing Agreement No. 21 to be effective 12/1/2021.

Filed Date: 10/23/23.

Accession Number: 20231023-5166.

Comment Date: 5 p.m. ET 11/13/23.

Docket Numbers: ER24-186-000.

Applicants: The United Illuminating Company.

Description: § 205(d) Rate Filing: Localized Costs Sharing Agreement No. 22 to be effective 12/1/2021.

Filed Date: 10/23/23.

Accession Number: 20231023-5167.

Comment Date: 5 p.m. ET 11/13/23.

Docket Numbers: ER24-187-000.

Applicants: The United Illuminating Company.

Description: § 205(d) Rate Filing: Localized Costs Sharing Agreement No. 23 to be effective 12/1/2021.

Filed Date: 10/23/23.

Accession Number: 20231023-5168.

Comment Date: 5 p.m. ET 11/13/23.

Docket Numbers: ER24-188-000.

Applicants: Wild Springs Solar, LLC.

Description: Baseline eTariff Filing: Application for MBR Authorization, Request for Waivers and Expedited Treatment to be effective 11/1/2023.

Filed Date: 10/23/23.

Accession Number: 20231023-5176.

Comment Date: 5 p.m. ET 11/13/23.

Docket Numbers: ER24-189-000.

Applicants: Michigan Electric Transmission Company, LLC.

Description: § 205(d) Rate Filing: Filling of an Agency Agreement for Third-Party Attachments to be effective 12/24/2023.

Filed Date: 10/24/23.

Accession Number: 20231024-5025.

Comment Date: 5 p.m. ET 11/14/23.

Docket Numbers: ER24-190-000.

Applicants: Chisholm View Wind Project II, LLC.

Description: § 205(d) Rate Filing: Chisholm View Wind Project II, LLC SFA Certificate of Concurrence to be effective 10/25/2023.

Filed Date: 10/24/23.

Accession Number: 20231024-5034.

Comment Date: 5 p.m. ET 11/14/23.

Docket Numbers: ER24-191-000.

Applicants: Midcontinent Independent System Operator, Inc., Union Electric Company.

Description: § 205(d) Rate Filing: Midcontinent Independent System Operator, Inc. submits tariff filing per 35.13(a)(2)(iii: 2023-10-24_SA 1982 UE-Linneus, Missouri 1st Rev WDS to be effective 1/1/2024.

Filed Date: 10/24/23.

Accession Number: 20231024-5049.

Comment Date: 5 p.m. ET 11/14/23.

Docket Numbers: ER24-192-000.

Applicants: MRP Elgin LLC.

Description: Initial rate filing: MRP Elgin Initial Reactive Rate Schedule to be effective 12/31/9998.

Filed Date: 10/24/23.

Accession Number: 20231024-5064.

Comment Date: 5 p.m. ET 11/14/23.

Docket Numbers: ER24-193-000.

Applicants: MRP Rocky Road LLC.

Description: Initial rate filing: MRP Rocky Road Initial Reactive Rate Schedule to be effective 12/31/9998.

Filed Date: 10/24/23.

Accession Number: 20231024-5066.

Comment Date: 5 p.m. ET 11/14/23.

Docket Numbers: ER24-194-000.

Applicants: AEP Texas Inc.

Description: § 205(d) Rate Filing: AEPTX-Peacock Energy Project (Jackalope) 1st A&R Generation Interconnection Agr to be effective 10/6/2023.

Filed Date: 10/24/23.

Accession Number: 20231024-5104.

Comment Date: 5 p.m. ET 11/14/23.

Docket Numbers: ER24-195-000.

Applicants: PPL Electric Utilities Corporation, PJM Interconnection, L.L.C.

Description: Tariff Amendment: PPL Electric Utilities Corporation submits tariff filing per 35.15: Notice of Cancellation of ESCA, SA No. 6255 to be effective 12/24/2023.

Filed Date: 10/24/23.

Accession Number: 20231024-5111.

Comment Date: 5 p.m. ET 11/14/23.

Docket Numbers: ER24-196-000.

Applicants: Grand Tower Energy Center, LLC.

Description: Tariff Amendment: Grand Tower Notice of Cancellation of Market-Based Rate Tariff to be effective 12/23/2023.

Filed Date: 10/24/23.

Accession Number: 20231024-5112.

Comment Date: 5 p.m. ET 11/14/23.

Docket Numbers: ER24-197-000.

Applicants: ITC Midwest LLC.

Description: § 205(d) Rate Filing: Filing of Joint Use Pole Agmt (RS 228) & Operation & Maintenance Agmt (RS 229) to be effective 12/24/2023.

Filed Date: 10/24/23.

Accession Number: 20231024-5120.

Comment Date: 5 p.m. ET 11/14/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: October 24, 2023.
Debbie-Anne A. Reese,
Deputy Secretary.

[FR Doc. 2023-23925 Filed 10-27-23; 8:45 am]

BILLING CODE 6717-01-P